DEPARTMENT OF THE INTERIOR

Fish and Wildlife Service

[FWS-R7-R-2013-N276; FF07RAM000 FXRS12610700000 145 MNGR]

Alaska Maritime National Wildlife Refuge, Alaska; Preparation of Environmental Assessments or Environmental Impact Statements Concerning Cattle Grazing on Wosnesenski and Chirikof Islands

AGENCY: Fish and Wildlife Service, Interior.

ACTION: Notice of intent.

SUMMARY: We, the U.S. Fish and Wildlife Service (Service), are in the process of identifying issues, and developing alternatives, to address the unauthorized grazing by cattle on two islands in the Alaska Maritime National Wildlife Refuge, Wosnesenski and Chirikof. This effort is known as “scoping” and is an early step in a process to develop either Environmental Assessments or Environmental Impact Statements in compliance with the National Environmental Policy Act (NEPA).

The purpose of this notice is (1) to advise other Federal and State agencies, Tribes, and the public of our intention to address grazing issues on Wosnesenski and Chirikof Islands and (2) to advise the public on how to provide suggestions and information regarding livestock grazing on these two islands.

DATES: Comments on the issues and possible alternatives to be addressed in the documents must be received no later than February 20, 2014.

ADDRESSES: Information about the Refuge and grazing on these two islands is available on the internet at: http://www.fws.gov/alaska/nwr/akmar/grazing.htm. Comments, questions, and requests for further information can be sent via electronic mail to fw7_akmaritime@fws.gov, faxed to (907) 235-7783, or mailed to Refuge Manager, Alaska Maritime National Wildlife Refuge, 95 Sterling Highway #1, Homer, AK 99603.

FOR FURTHER INFORMATION CONTACT: Steve Delehanty, Refuge Manager, phone (907) 235-6546.

SUPPLEMENTARY INFORMATION:

Project

These documents will examine the history of livestock grazing on the islands, the impact of grazing on the environment and natural biodiversity, identify the need for action and authority to act, summarize potential issues, evaluate a reasonable range of alternatives, and describe the affected environment and environmental consequences of alternatives. Cattle ownership and compatibility of grazing with purposes of the refuge will also be addressed.

Both Wosnesenski and Chirikof islands, located in remote Southwest Alaska, are uninhabited and part of the Alaska Maritime National Wildlife Refuge. The Refuge was established in 1980 to conserve marine mammals, seabirds and other migratory birds, and the marine resources upon which they rely. Wosnesenski and Chirikof islands have sustained severe impacts to wildlife habitat, native vegetation, and archaeological sites from grazing by unauthorized cattle left behind when they were left on the islands years ago.

Refuge Background

Stretching from the Arctic Ocean to the southeast panhandle, the Alaska Maritime National Wildlife Refuge protects breeding habitat for seabirds, marine mammals, and other wildlife on more than 2,500 islands, spires, rocks, and coastal headlands. Some of these isolated islands host unique species not found elsewhere. In 1980, the Alaska National Interest Lands Conservation Act (ANILCA) created the Alaska Maritime Refuge by combining and adding to 11 existing coastal refuges.

Public Involvement

The public's ideas and comments are an important part of the planning process, and we invite public participation. We will meet with the public in communities within and near the Refuge and in Homer and Kodiak. Meetings will be announced locally and posted on our Web site. We encourage the public to provide comments, which will help us determine the issues and formulate alternatives. We will be accepting comments at meetings, via email, U.S. mail, and telephone during this open comment period (see DATES), as well as through personal contacts throughout the planning process.

Public Availability of Comments

Before including your address, phone number, email address, or other personal identifying information in your comment, you should be aware that your entire comment—including your personal identifying information—may be made publicly available at any time. While you can ask us in your comment to withhold your personal identifying information from public review, we cannot guarantee that we will be able to do so.

Authorities

NEPA (42 U.S.C. 4321 et seq.) and its implementing regulations; Alaska National Interest Lands Conservation Act (ANILCA; 16 U.S.C. 3111-3126); and the National Wildlife Refuge System Administration Act of 1966 (Refuge Administration Act), as amended by the National Wildlife Refuge System Improvement Act of 1997 (Refuge Improvement Act).

Dated: January 13, 2014.
Geoffrey L. Haskett,
Regional Director, U.S. Fish and Wildlife Service, Anchorage, Alaska.

[FR Doc. 2014-01024 Filed 1-17-14; 8:45 am]

BILLING CODE 4310-55-P